DEPARTMENT OF TRANSPORTATION

Federal Aviation Administration

14 CFR Part 39

[Docket No. FAA-2006-24431; Directorate Identifier 2006-NM-011-AD]

RIN 2120-AA64

Airworthiness Directives; Airbus Model A319, A320, and A321 Airplanes

AGENCY: Federal Aviation Administration (FAA), Department of Transportation (DOT).

ACTION: Notice of proposed rulemaking (NPRM).

SUMMARY: The FAA proposes to adopt a new airworthiness directive (AD) for certain Airbus Model A319, A320, and A321 airplanes. This proposed AD would require a detailed inspection for cracks and marks on the carbon blades of the ram air turbine (RAT), and replacement of the RAT with a new or serviceable RAT if necessary. This proposed AD results from a report of three chord-wise cracks on the aft side of one carbon blade of a certain RAT. We are proposing this AD to detect and correct cracks and/or marks on the RAT carbon blades, which could result in reduced structural integrity of the carbon blade, and consequent loss of the RAT as a source of hydraulic and electrical power in an emergency.

DATES: We must receive comments on this proposed AD by May 15, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “FAA-2006-24431; Directorate Identifier 2006-NM-011-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A319, A320, and A321 airplanes. The DGAC advises that, during routine maintenance inspections, three chord-wise cracks were found on the aft side of one carbon blade of the Sundstrand ram air turbine (RAT), part number (P/N) 762308. Investigations revealed that the carbon fibers of the carbon blades were installed in the incorrect position during manufacturing, which reduced the structural integrity of the blades and caused the cracks. Cracks and/or marks on the carbon blades of the RAT, if not corrected, could result in reduced structural integrity of the carbon blade, and consequent loss of the RAT as a source of hydraulic and electrical power during an emergency.

Relevant Service Information

Airbus has issued Service Bulletin A320-29-1124, dated November 23, 2005. The service bulletin describes procedures for a detailed inspection for cracks and marks on the carbon blades of the RAT, and replacement of the RAT with a new or serviceable RAT if necessary. Accomplishing the actions specified in the service information is intended to adequately address the unsafe condition. The DGAC mandated the service information and issued French airworthiness directive F-2005-212 on December 21, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the inspection and replacement if necessary specified in the service information described previously.

Costs of Compliance

This proposed AD would affect about 34 airplanes of U.S. registry. The proposed inspection would take about 1 work hour per airplane, at an average labor rate of $80 per work hour. Based on these figures, the estimated cost of the proposed AD for U.S. operators is $2,720, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24431; Directorate Identifier 2006-NM-011-AD.

Comments Due Date

(a) The FAA must receive comments on this AD action by May 15, 2006.

Affected ADs

(b) None.

Applicability

(c) This AD applies to airplanes identified in Table 1 of this AD, certificated in any category; except those airplanes on which no modification/replacement of the RAT has been done since incorporating Airbus modification 27014 (installation of a Sundstrand ram air turbine (RAT), part number (P/N) 766352) or 28413 (reinstallation of the Dowty RAT) in production.

Table 1.—Applicability
Airbus model | Equipped with
(1) A320 airplanes | A Sundstrand RAT, P/N 762308, installed by incorporating Airbus modification 27189 in production.
(2) A319 and A321 airplanes | A Sundstrand RAT, P/N 762308, installed by incorporating Airbus modification 25364 in production or Airbus Service Bulletin A320-29-1075 in service.

Unsafe Condition

(d) This AD results from a report of three chord-wise cracks on the aft side of one carbon blade of a certain RAT. We are issuing this AD to detect and correct cracks and/or marks on the RAT carbon blades, which could result in reduced structural integrity of the carbon blade, and consequent loss of the RAT as a source of hydraulic and electrical power in an emergency.

Compliance

(e) You are responsible for having the actions required by this AD performed within the compliance times specified, unless the actions have already been done.

Inspection and Replacement

(f) Within 600 flight hours after the effective date of this AD, do a detailed inspection for cracks and marks on the carbon blades of the RAT, in accordance with the Accomplishment Instructions of Airbus Service Bulletin A320-29-1124, dated November 23, 2005. If any crack or mark is found to be outside the limits specified in the service bulletin, before further flight, replace the RAT with a new or serviceable RAT in accordance with the Accomplishment Instructions of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Parts Installation

(g) As of the effective date of this AD, no person may install a Sundstrand RAT, P/N 762308, on any airplane, unless it has been inspected in accordance with paragraph (f) of this AD and found to be within the limits specified in the referenced service bulletin.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-212, issued December 21, 2005, also addresses the subject of this AD.

Issued in Renton, Washington, on April 4, 2006.
Kevin M. Mullin,
Acting Manager, Transport Airplane Directorate, Aircraft Certification Service.

[FR Doc. E6-5476 Filed 4-12-06; 8:45 am]

BILLING CODE 4910-13-P